DEPARTMENT OF AGRICULTURE

Forest Service

Modoc County Resource Advisory Committee

AGENCY: Forest Service, USDA.

ACTION: Notice of meeting.

SUMMARY: The Modoc County Resource Advisory Committee will meet in Alturas, CA. The committee is meeting as authorized under the Secure Rural Schools and Community Self-Determination Act (Pub. L. 110-343) and in compliance with the Federal Advisory Committee Act. The purpose of the meeting is to review Resource Advisory Committee Project Applications.

DATES: The meeting will be held October 4, 2010, 4 p.m.

ADDRESSES: The meeting will be held at Modoc National Forest Office, Conference Room, 800 West 12th St., Alturas.

FOR FURTHER INFORMATION CONTACT: Kimberly H. Anderson, Forest Supervisor and Designated Federal Officer, at (530) 233-8700; or Resource Advisory Coordinator, Stephen Riley at (530) 233-8771.

SUPPLEMENTARY INFORMATION: The business meeting on October 4, 2010 will begin at 4 p.m., at the Modoc National Forest Office, Conference Room, 800 West 12th St., Alturas, California 96101. Agenda topics will include recruiting new project proposals that meet the intent of Public Law 110-343. Time will also be set aside for public comments at the beginning of the meeting.

Dated: September 20, 2010.
Kimberly H. Anderson,
Forest Supervisor.

[FR Doc. 2010-24177 Filed 9-24-10; 8:45 am]

BILLING CODE 3410-11-P